DEPARTMENT OF HEALTH AND HUMAN SERVICES

National Institutes of Health

Notice To Announce Request for Information on the Development of the National Institute of Diabetes and Digestive and Kidney Diseases Strategic Plan

AGENCY: National Institutes of Health, HHS.

ACTION: Request for Information.

SUMMARY: This Request for Information (RFI) is intended to gather broad public input to assist the National Institute of Diabetes and Digestive and Kidney Diseases (NIDDK) in developing the NIDDK Strategic Plan. NIDDK invites input from: The scientific research community; patients and caregivers; health care providers and health advocacy organizations; scientific and professional organizations; federal agencies; and other stakeholders, including interested members of the public. Organizations are strongly encouraged to submit a single response that reflects the views of their organization and their membership as a whole.

DATES: Comments must be received by 11:59:59 p.m. (ET) on May 18, 2020 to ensure consideration.

ADDRESSES: All comments must be submitted electronically on the submission website, available at https://grants.nih.gov/grants/rfi/rfi.cfm?ID=106.

FOR FURTHER INFORMATION CONTACT: Please direct all inquiries to: Lisa Gansheroff, NIDDKstrategicplan@nih.gov, 301.496.6623.

SUPPLEMENTARY INFORMATION: In accordance with the 21st Century Cures Act, NIH is required to regularly update their strategic plans. The National Institute of Diabetes and Digestive and Kidney Diseases (NIDDK) is embarking on an Institute-wide strategic planning process. The goal of the process is to develop a broad vision for accelerating research into the causes, prevention, and treatment of diseases and conditions within the Institute's mission. This overarching trans-NIDDK Strategic Plan will complement NIDDK's disease-specific planning efforts. The strategic plan will have a 5-year time horizon but will also include planning for longer term efforts that could be initiated within this time frame.

A critical component of this strategic planning process is to seek input from the research and patient communities and others who have an interest in research within the mission of NIDDK. As part of that approach, the purpose of this Request for Information (RFI) is to invite input on opportunities and strategies to advance NIDDK's mission.

NIDDK will use responses collected as part of this RFI to inform the development of the Institute-wide Strategic Plan, which will be posted in draft form for additional public comment.

NIDDK conducts and supports biomedical research and research training and disseminates science-based information on: Diabetes and other endocrine and metabolic diseases; digestive diseases, including liver, gastrointestinal, and other diseases; nutritional disorders; obesity; and kidney, urologic, and hematologic diseases, to improve people's health and quality of life. Based on this mission, NIDDK has formulated the following broad themes for input, as a starting point for the planning process:

Themes for Input

• Advancing understanding of biological pathways and environmental contributors to health and disease.

• Advancing progress in pivotal clinical studies and trials for prevention, treatment, and cures in diverse populations.

• Advancing dissemination and implementation research on strategies to identify, adapt, scale-up, and integrate evidence-based interventions in diverse settings and populations.

• Promoting participant engagement—including patients and other participants as true partners in research.

• Advancing research training and career development to promote a talented, diverse biomedical research workforce.

• Promoting innovation, rigor and reproducibility in research, partnerships, communicating research results, and other critical efforts as part of efficient and effective stewardship of public resources.

NIDDK invites input from: The scientific research community; patients and caregivers; health care providers and health advocacy organizations; scientific and professional organizations; federal agencies; and other stakeholders, including interested members of the public.

NIDDK seeks input on any of the broad themes above. Your comments could include any of the following: Research opportunities for the themes highlighted above; innovative strategies to advance research progress; the challenges to progress in these areas; emerging trends, advances, technologies, analytic strategies, challenges in big data science, and perspectives that NIDDK should consider in this planning process; potential approaches to gauge research progress and success. Please also comment on any other topic that you find relevant to the development of the NIDDK Institute-wide Strategic Plan.

Organizations are strongly encouraged to submit a single response that reflects the views of their organization and membership as a whole.

Responses to this RFI are voluntary and may be submitted anonymously. Please do not include any information that you do not wish to make public. Proprietary, classified, confidential, or sensitive information should not be included in your response. The Government will use the information submitted in response to this RFI at its discretion. Individual feedback will not be provided to any responder. The Government reserves the right to use any submitted information on public websites, in reports, in summaries of the state of the science, in any possible resultant solicitation(s), grant(s), or cooperative agreement(s), or in the development of future funding opportunity announcements. This RFI is for informational and planning purposes only and is not a solicitation for applications or an obligation on the part of the Government to provide support for any ideas identified in response to it. Please note that the Government will not pay for the preparation of any information submitted or for use of that information.

NIDDK looks forward to your input and we hope that you will share this RFI with your colleagues.

Dated: March 20, 2020.
Bruce T. Roberts,
Health Science Policy Analyst, National Institute of Diabetes and Digestive and Kidney Diseases.

[FR Doc. 2020-06271 Filed 3-25-20; 8:45 am]

BILLING CODE 4140-01-P